CORPORATION FOR NATIONAL AND COMMUNITY SERVICE

Submission for OMB Emergency Review

AGENCY: Corporation for National and Community Service.

ACTION: Notice.

SUMMARY: The Corporation for National and Community Service (hereinafter the “Corporation”), submitted the following information collection request (ICR) to the Office of Management and Budget (OMB) for review and clearance in accordance with the Paperwork Reduction Act of 1995, (PRA 95) (44 U.S.C. Chapter 35). The Corporation requested that OMB review and approve its emergency request by August 15, 2003, for a period of six months. A copy of this ICR, with applicable supporting documentation, may be obtained by contacting the Corporation for National and Community Service, Office of Public Affairs, Ms. Rhonda Taylor, (202) 606-5000, Ext. 282, or by e-mail at RTaylor@cns.gov.

Unfortunately, since the Corporation requested OMB's approval of this emergency request by August 15, 2003, there will be not enough time for the public to provide comments through this Federal Register notice before the approval date. Therefore, there will be no public comment period regarding this notice. However, if OMB approves the emergency request for six (6) months, the Corporation will be asking for the public's comment during that time period.

Type of Review: Emergency request.

Agency: Corporation for National and Community Service.

Title: President's Volunteer Service Award Applications/Order Form.

OMB Number: None.

Agency Number: None.

Affected Public: Citizens of the United States.

Total Respondents: 200,000.

Frequency: On occasion.

Average Time Per Response: 20 minutes.

Estimated Total Burden Hours: 100,000 hours.

Total Burden Cost (capital/startup): 1,654,000.

Total Burden Cost (operating/maintenance): None.

Description: The President's Council on Service and Civic Participation was created by Executive Order on January 30, 2003. The Council is administered by the Corporation for National and Community Service. Under the Executive Order the Council is directed to (among other things) design and recommend programs to recognize individuals, schools, and organizations that excel in their efforts to support volunteer service and civic participation, especially with respect to students in primary schools, secondary schools, and institutions of higher learning. The Council will bestow the President's Volunteer Service Award to meet this requirement. In order to recognize individuals, schools and organizations, the program must collect information about the individuals and organizations and their activities to verify that they have earned the award.

The information collected will be used by the Program primarily to select winners of the President's Volunteer Service Awards and the Call to Service Awards (4000 hours or more.) Individuals or organizations can be nominated by an organization or third party, or as an exception, self nominate. The nominations will be reviewed by the administering agency for compliance and awards will be made on that basis. Information also will be used to assure the integrity of the Program (so that, for example, an individual or organization does not receive an award twice for the same project), for reporting on the accomplishments of the Program, for the public awareness campaign (such as press releases and website information on winning projects), and to further the purposes of the Executive Order (such as fostering partnerships and coordination of projects and to promote civic engagement).

Therefore, the Corporation has requested OMB's emergency review and approval by August 15, 2003.

Dated: August 8, 2003.
Barbara Taylor,
Director, Office of Public Affairs.

[FR Doc. 03-20742 Filed 8-13-03; 8:45 am]

BILLING CODE 6050-$$-P